DEPARTMENT OF LABOR

Employment and Training Administration

[TA-W-73,281]

Shorewood Packaging, a Subsidiary of International Paper Company, Including On-Site Leased Workers From Ameristaff Staffing, Danville, VA; Notice of Revised Determination on Reconsideration

By application dated September 7, 2010 the petitioner requested administrative reconsideration of the negative determination regarding workers' eligibility to apply for Trade Adjustment Assistance (TAA) applicable to workers and former workers of the subject firm. The determination was issued on August 19, 2010 and the Notice of Determination was published in the Federal Register on September 3, 2010 (75 FR 54187). The workers produce cigarette cartons.

The initial investigation resulted in a negative determination based on the findings that the subject firm did not shift to/acquire from a foreign country the production of articles like or directly competitive with cigarette cartons; that neither the subject firm nor its major declining customers increased imports of articles like or directly competitive with cigarette cartons; that the subject workers are not adversely affected secondary workers; and the International Trade Commission did not identify the subject firm by name as an injured member of a domestic industry in an investigation pursuant to the Tariff Act of 1930.

During the reconsideration investigation, the Department reviewed additional information provided by the petitioner and previously-submitted information, as well as additional information obtained from other sources.

During the reconsideration investigation, the Department confirmed that the subject firm supplied folding cartons used primarily in the tobacco market and confirmed the subject firm's customer base. During the reconsideration investigation, the Department received new information regarding the relationship between the subject firm and a major declining customer and the operations of the customer, with regards to cigarette cartons.

Based on the new information, the Department determines that the subject firm is a supplier to a firm that employs a worker group currently eligible to apply for TAA; the supply of the component part is related to the finished article that is the basis for the TAA certification; and the firm accounts for at least twenty percent of the production or sales of the subject firm.

Conclusion

After careful review of the additional facts obtained during the reconsideration investigation, I determine that workers of Shorewood Packaging, a subsidiary of International Paper Company, Danville, Virginia, meet the worker group certification criteria under Section 222(c) of the Act, 19 U.S.C. 2272(c). In accordance with Section 223 of the Act, 19 U.S.C. 2273, I make the following certification:

“All workers of Shorewood Packaging, a subsidiary of International Paper Company, including on-site leased workers from Ameristaff Staffing, Danville, Virginia, who became totally or partially separated from employment on or after January 12, 2009, through two years from the date of this revised certification, and all workers in the group threatened with total or partial separation from employment on date of certification through two years from the date of certification, are eligible to apply for adjustment assistance under Chapter 2 of Title II of the Trade Act of 1974, as amended.”

Signed in Washington, DC, this 10th day of November, 2010.
Del Min Amy Chen,
Certifying Officer, Office of Trade Adjustment Assistance.

[FR Doc. 2010-29435 Filed 11-22-10; 8:45 am]

BILLING CODE 4510-FN-P